OCCUPATIONAL SAFETY AND HEALTH REVIEW COMMISSION

29 CFR Part 2202

Rules of Ethics and Conduct of Review Commission Employees

AGENCY: Occupational Safety and Health Review Commission.

ACTION: Final rule.

SUMMARY: The Commission hereby eliminates its rules for the ethics and conduct of Commission employees. The ethics and conduct of Commission employees are now governed by rules issued by the Office of Government Ethics (OGE) subsequent to the Commission's adoption of its rules. Eliminating the Commission's separate rules will prevent confusion in the administration of the Commission's program for ensuring that its employees comply with the accepted standards for ethical conduct.

DATES: Effective May 1, 2001.

FOR FURTHER INFORMATION CONTACT: Earl R. Ohman, Jr., General Counsel, One Lafayette Center, 1120 20th St., N.W. 9th Floor, Washington, D.C. 20036-3457, phone 202-606-5410.

SUPPLEMENTARY INFORMATION: Rules for the ethical conduct of employees including Commission employees have been promulgated by the OGE at 5 CFR Part 2635, Standards of Ethical Conduct for Employees of the Executive Branch. The OGE has advised the Commission that these rules supersede 29 CFR Part 2202.

List of Subjects in 29 CFR Part 2202

Conflict of interests.

For the reasons stated, the Occupational Safety and Health Review Commission under the authority of 29 U.S.C. 661(g) amends Title 29, Chapter XX of the Code of Federal Regulations as follows:

PART 2202—[REMOVED AND RESERVED]

1. Part 2202 is removed and reserved.

Dated: April 25, 2001.
Earl R. Ohman, Jr.,
General Counsel.

[FR Doc. 01-10767 Filed 4-30-01; 8:45 am]

BILLING CODE 7600-01-M